FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than June 11, 2021.

A. Federal Reserve Bank of Dallas (Karen Smith, Director, Applications) 2200 North Pearl Street, Dallas, Texas 75201-2272:

1. Lawrence W. Pickett, Dana Dosher DeGravelle, Marilyn Pickett Worsley, Rock W. Worsley, Lauren P. Davis, Pamela J. Pickett, Benjamin Clark Burch, and minor children, all of Monroe, Louisiana; Amanda Dosher Arledge, West Monroe, Louisiana; Adam L. Pickett, San Francisco, California; De-Ette Copes and Lonnie L. Copes, both of Delhi, Louisiana; Charles E. Hixon, Jr. and Anne Ruth Hixon, both of Rayville, Louisiana; Bonnie R. Holley and Willie R. Holley, both of Epps, Louisiana; David Wesley Sullivan, Pioneer, Louisiana; and Joshua D. Sullivan, New Orleans, Louisiana; a group acting in concert, to retain voting shares of Capital Bancorp, Inc., and thereby indirectly retain voting shares of Commercial Capital Bank, both of Delhi, Louisiana.

B. Federal Reserve Bank of Minneapolis (Chris P. Wangen, Assistant Vice President), 90 Hennepin Avenue, Minneapolis, Minnesota 55480-0291:

1. James T. Roberton, Ramsey, Minnesota; to retain voting shares of Rushford State Bancorp, Inc., and thereby indirectly retain voting shares of Rushford State Bank, both of Rushford, Minnesota.

Board of Governors of the Federal Reserve System, May 24, 2021.
Michele Taylor Fennell,
Deputy Associate Secretary of the Board.

[FR Doc. 2021-11277 Filed 5-26-21; 8:45 am]

BILLING CODE P